DEPARTMENT OF TRANSPORTATION

Federal Aviation Administration

14 CFR Part 71

Proposed Modification of the Los Angeles Class B Airspace Area; CA

AGENCY: Federal Aviation Administration (FAA), DOT.

ACTION: Notice of public meetings.

SUMMARY: This notice announces four fact-finding informal airspace meetings to solicit information from airspace users, and others, concerning a proposal to revise the Class B airspace at Los Angeles, CA. The purpose of these meetings is to provide interested parties an opportunity to present views, recommendations, and comments on the proposal. All comments received during these meetings will be considered prior to any revision or issuance of a notice of proposed rulemaking.

DATES: The informal airspace meetings will be held on Tuesday, January 20, 2004; Thursday, January 22, 2004; Tuesday, January 27, 2004; and Thursday, January 29, 2004; beginning at 7 p.m. Comments must be received on or before February 29, 2004.

ADDRESSES: (1) The meeting on Tuesday, January 20, 2004, will be held at the Embassy Suites Los Angeles South—Imperial Ballroom, 1440 E. Imperial Avenue, El Segundo, CA, 90245. Directions: Take the 405 Freeway to the 105 Freeway, go west to Freeway end. Then turn left at California Street. The hotel is on the left. (2) The meeting on Thursday, January 22, 2004, will be held at the James Monroe High School—Odens Hall/Multi Purpose Room, 9229 Haskell Avenue, North Hills, CA, 91343. Directions: Take the 405 Freeway to Nordhoff Street, turn left and go two blocks to Haskell Avenue. High school is on the right. (3) The meeting on Tuesday, January 27, 2004, will be held at the Riverside Marriot Hotel—Grand Ball Room, 3400 Market Street, Riverside, CA, 92501. Directions: Take 60 East, then take the exit for Market Street and turn right. The hotel is ½ mile on the left. (4) The meeting on Thursday, January 29, 2004, will be held at the Costa Mesa Neighborhood Community Center, 1845 Park Avenue, Costa Mesa, CA, 92627. Directions: Take the 55 Freeway south and turn right on 19th Street. Go two lights and turn left on Park Avenue. The facility is on the right.

Comments: Send or deliver comments on the proposal in triplicate to: Manager, Air Traffic Division, AWP-500, Federal Aviation Administration, PO Box 92007, Los Angeles, CA, 90009-2007.

FOR FURTHER INFORMATION CONTACT: Debra Trindle, Air Traffic Division, AWP-520, FAA, Western-Pacific Regional Office, telephone (310) 725-6611.

SUPPLEMENTARY INFORMATION:

Meeting Procedures

The following procedures will be used to facilitate the meeting:

(a) The meetings will be informal in nature and will be conducted by one or more representatives of the FAA Western-Pacific Region. Representatives from the FAA will present a formal briefing on the proposed modifications to the Class B airspace area. Each participant will be given an opportunity to deliver comments or make a presentation.

(b) The meetings will be open to all persons on a space-available basis. There will be no admission fee or other charge to attend and participate.

(c) Any person wishing to make a presentation to the FAA panel will be asked to sign in and estimate the amount of time needed for such presentation. This will permit the panel to allocate an appropriate amount of time for each presenter.

(d) The meetings will not be adjourned until everyone on the list has had an opportunity to address the panel.

(e) Position papers or other handout material relating to the substance of these meetings will be accepted. Participants wishing to submit handout material should present three copies to the presiding officer. There should be additional copies of each handout available for other attendees.

(f) These meetings will not be formally recorded. However, a summary of the comments made at the meeting will be filed in the docket.

Agenda for the Meetings

• Opening Remarks and Discussion of Meeting Procedures.

• Briefing on Background of the Class B Proposal.

• Public Presentations and Comments.

• Closing Comments.

Issued in Washington, DC, on November 4, 2003.
Paul B. Gallant,
Acting, Manager, Airspace and Rules Division.

[FR Doc. 03-28528 Filed 11-14-03; 8:45 am]

BILLING CODE 4910-13-P